DEPARTMENT OF COMMERCE

National Oceanic and Atmospheric Administration

RIN 0648-XT53

Endangered and Threatened Species; Take of Anadromous Fish

AGENCY: National Marine Fisheries Service (NMFS), National Oceanic and Atmospheric Administration (NOAA), Commerce.

ACTION: Applications for five new scientific research permits and two permit modifications.

SUMMARY: Notice is hereby given that NMFS has received seven scientific research permit application requests relating to Pacific salmon. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on January 29, 2010.

ADDRESSES: Written comments on the applications should be sent to the Protected Resources Division, NMFS, 1201 NE Lloyd Blvd., Suite 1100, Portland, OR 97232-1274. Comments may also be sent via fax to 503-230-5441 or by e-mail to nmfs.nwr.apps@noaa.gov.

FOR FURTHER INFORMATION CONTACT: Garth Griffin, Portland, OR (ph.: 503-231-2005, Fax: 503-230-5441, e-mail: Garth.Griffin@noaa.gov). Permit application instructions are available from the address above, or online at apps.nmfs.noaa.gov.

SUPPLEMENTARY INFORMATION:

Species Covered in This Notice

The following listed species are covered in this notice:

Chinook salmon (Oncorhynchus tshawytscha): threatened lower Columbia River (LCR), threatened upper Willamette River (UWR), endangered upper Columbia River (UCR), threatened Snake River (SR) spring/summer (spr/sum), threatened SR fall, threatened Puget Sound (PS).

Chum salmon (O. keta): threatened Columbia River (CR).

Steelhead (O. mykiss): threatened LCR, threatened UWR, threatened middle Columbia River (MCR), threatened SR, threatened UCR, threatened PS.

Coho salmon (O. kisutch): threatened LCR, threatened Oregon Coast (OC).

Sockeye salmon (O. nerka): endangered SR.

Green Sturgeon (Acipenser medirostris)

Eulachon: Southern Distinct Population Segment (DPS) (Thaleichthys pacificus)

Authority

Scientific research permits are issued in accordance with section 10(a)(1)(A) of the ESA (16 U.S.C. 1531 et. seq) and regulations governing listed fish and wildlife permits (50 CFR parts 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1379-5M

The Columbia River Inter-Tribal Fish Commission (CRITFC) is seeking to modify a permit that currently allows them to take listed salmonids (UCR steelhead and Chinook; LCR steelhead and Chinook; MCR steelhead; and SR steelhead, spr/sum Chinook, fall Chinook, and sockeye) while conducting research designed to increase what we know about the status and productivity of various fish populations, collect data on migratory and exploitation (harvest) patterns, and develop baseline information on various population and habitat parameters in order to guide salmonid restoration strategies. The permit would comprise four studies: Project 1--Juvenile Upriver Bright Fall Chinook Sampling at the Hanford Reach; Project 2--Adult Chinook, Sockeye, and Coho Sampling at Bonneville Dam; Project 3--Adult Sockeye Sampling at Tumwater and Wells dams; and Project 4--Acoustic trawl survey for Lake Wenatchee juvenile sockeye salmon. This modification would increase the number of fish CRITFC is allowed to handle and add Project 4. The research will benefit listed fish by helping managers set in-river and ocean harvest regimes so that they have minimal impacts on listed populations. It will also help managers prioritize projects in a way that gives maximum benefit to listed species including projects designed to help the listed fish recover. The CRITFC would obtain fish from the adult collection facilities at Bonneville, Wells, and Tumwater dams. The fish will be anesthetized, measured, examined for marks, scale-sampled, and allowed to return to the river. The researchers would also use beach- and stick seines to capture and tag juvenile fish in the Hanford reach of the Columbia River and capture fish during mid-water trawls in Lake Wenatchee. Those fish that are not immediately released upon capture would be transported to a holding facility where they will be anesthetized, examined for marks, adipose-clipped, coded wire tagged, allowed to recover, and released. The CRITFC does not intend to kill any of the fish being captured but a small number may die as an unintended result of the activities.

Permit 14271-2M

The Washington State Department of Ecology (Ecology) is seeking to modify their 2 year scientific research permit that currently authorizes them to take juvenile and adult PS Chinook salmon, PS steelhead, and HC chum salmon. The modification would expand the area of the research to include the lower Columbia River and some Washington coastal areas. It would also allow them to take UCR steelhead and Chinook, SR sockeye, spr/sum Chinook, fall Chinook, and steelhead, LCR Chinook, coho and steelhead, MCR steelhead, UWR Chinook, CR chum, green sturgeon, and southern DPS eulachon. The purpose of the project is to continue developing a sampling plan to report on the status of watershed health and salmon recovery efforts at three spatial scales: Water Resource Inventory Area, Salmon Recovery Region, and statewide. The goal is to develop a quality assurance monitoring plan for statewide probability-based sampling of aquatic habitat conditions and species diversity and abundance. The information gathered by this research would benefit listed salmonids by helping resource managers evaluate the effectiveness of habitat restoration efforts and the status and trends of aquatic species. The applicant proposes to capture fish with backpack and boat electrofishing equipment. Listed fish would be enumerated and immediately released. The applicant does not propose to kill any listed fish species, but a small number may die as an unintended result of the activities.

Permit 14647

Wyllie-Echeverria Associates (WEA) is seeking to renew a research permit (permit 1521-4M) that currently authorizes the WEA to take juvenile natural and hatchery PS Chinook while conducting research designed to determine which salmonid species and which Chinook salmon stocks use the nearshore marine habitats of San Juan Archipelago, Washington. The modification would allow them to take juvenile PS steelhead as well. The research would benefit the listed fish by helping managers set priorities for protecting salmonid habitat in Washington. Also, the information gathered would be used in salmon recovery planning. The WEA proposes to capture fish using beach seines, toss nets, and surface tow nets. The fish would be handled, anesthetized, fin clipped, and released at selected sites in the nearshore marine habitats of the islands. The WEA does not propose to kill any of the fish being captured, but a small number may die as an unintended result of the activities.

Permit 14678

Mr. Kenneth L. Witty is seeking to annually take juvenile, threatened, MCR steelhead during the course of scientific research in the Yakima River basin in Washington. The purpose of the research is to study fish communities in the irrigation drainage networks of the lower Yakima River basin. The project will determine the extent to which threatened steelhead juveniles inhabit the irrigation networks. The research will benefit threatened MCR steelhead by giving Federal managers data on where the fish are in the Yakima River basin irrigation system thus helping them make decisions about how to run the system in a way that conserves the species. Backpack electrofishing equipment will be used to sample fish distribution and abundance. Mr. Witty does not intend to kill any listed salmonids but a few may die as an unintentional result of the research.

Permit 14717

The US Fish and Wildlife Service (FWS) is requesting a one-year research permit to take juvenile LCR Chinook, coho, and chum salmon. The Pacific Northwest National Laboratory has been conducting a comparative study of disturbed, undisturbed, and restored estuarine marshes in three tributaries of the Gray's River, Washington. Their study has examined the vegetative and hydrological conditions but relatively little information has been collected on salmonids. The objective of the FWS is to study species distribution and abundance in these three tributaries. The goal of the FWS is to determine if there is a significant difference in species abundance and diversity among these three sites. The research would benefit the species by helping managers learn more about the effectiveness of habitat restoration efforts. The FWS would use backpack electrofishing equipment to capture, handle, and release salmonids. Fish would be sedated with MS-222, weighed, measured, then allowed to recover before release. The FWS does not intend to kill any fish being captured but a small number may die as an unintended result of the activities.

Permit 14772

The Oregon Department of Fish and Wildlife (ODFW) is requesting a five-year research permit to take juvenile and adult OC coho salmon. The objective of the research is to determine fish abundance and distribution, as well as habitat preference in the Umpqua River. The ODFW would also study the distribution of non-native invasive species, interspecific competition, and predator-prey interactions. The information would benefit OC coho by helping to improve management plans. The ODFW would use backpack and boat electrofishing equipment to capture fish that would then be handled and swiftly released. The ODFW will avoid adult coho, but a few may be shocked. If the researchers were to encounter adult coho, they would shut off the electrical current and allow the fish to swim away and no more electrofishing would occur in that location. The ODFW does not intend to kill any of the fish being captured but a small number of juvenile coho may die as an unintended result of the activities.

Permit 15119

The Washington State Department of Ecology (Ecology) is requesting a 1-year research permit to take all fish species identified in this notice while conducting research throughout the coastal waters of the State of Washington. The research is part of the EPA-funded National Coastal Condition Assessment, which investigates the occurrence and concentrations of toxic contaminants in marine and estuarine fish tissue as one component of ecological health. The listed species would benefit indirectly from the development of actions to control, reduce, and remove toxic contaminants from Washington State's waters. Ecology would capture fish (using otter trawl, hook-and-line, or beach seine), handle, and release them. Ecology does not intend to kill any listed fish, but a small number may die as an unintended result of the activities.

This notice is provided pursuant to section 10(c) of the ESA. NMFS will evaluate the applications, associated documents, and comments submitted to determine whether the applications meet the requirements of section 10(a) of the ESA and Federal regulations.The final permit decisions will not be made until after the end of the 30-day comment period. NMFS will publish notice of its final action in the Federal Register.

Dated: December 24, 2009.
Therese Conant,
Acting Chief, Endangered Species Division, Office of Protected Resources, National Marine Fisheries Service.

[FR Doc. E9-31005 Filed 12-29-09; 8:45 am]

BILLING CODE 3510-22-S